DEPARTMENT OF LABOR

Employment and Training Administration

[TA-W-51,128]

DT Precision Assembly Industries, Erie, PA; Notice of Negative Determination Regarding Application for Reconsideration

By application of May 21, 2003, a petitioner requested administrative reconsideration of the Department's negative determination regarding eligibility to apply for Trade Adjustment Assistance (TAA), applicable to workers and former workers of the subject firm. The denial notice was signed on April 23, 2003, and published in the Federal Register on May 7, 2003 (68 FR 24502).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of DT Precision Assembly Industries, Erie, Pennsylvania was denied because the “contributed importantly” group eligibility requirement of Section 222 of the Trade Act of 1974, as amended, was not met. The “contributed importantly” test is generally demonstrated through a survey of customers of the workers' firm. The survey revealed that none of the respondents increased their purchases of imported automated assembly machines, rotary dial and in-line type machines. The company did not import automated assembly machines, rotary dial and in-line type machines in the relevant period nor did it shift production to a foreign country.

The petitioner provides a copy of what he alleges to be primary domestic and overseas competitors.

The petitioner further alleges that the subject firm is faced with competitors from Canada, Europe and Asia.

A review of competitors is not relevant to investigations concerning import impact on workers applying for trade adjustment assistance. As noted above, “contributed importantly” test is generally demonstrated through a survey of customers of the workers' firm to examine the direct impact on a specific firm. No imports were evidenced as a result of this survey.

Conclusion

After review of the application and investigative findings, I conclude that there has been no error or misinterpretation of the law or of the facts which would justify reconsideration of the Department of Labor's prior decision. Accordingly, the application is denied.

Signed at Washington, DC this 24th day of July, 2003.
Elliott S. Kushner,
Certifying Officer, Division of Trade Adjustment Assistance.

[FR Doc. 03-20112 Filed 8-6-03; 8:45 am]

BILLING CODE 4510-30-P